FEDERAL COMMUNICATIONS COMMISSION

Notice of Public Information Collection Being Reviewed by the Federal Communications Commission, Comments Requested

October 23, 2009.

SUMMARY: The Federal Communications Commission, as part of its continuing effort to reduce paperwork burden invites the general public and other Federal agencies to take this opportunity to comment on the following information collection(s), as required by the Paperwork Reduction Act of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comments on this information collection should submit comments on December 28, 2009. If you anticipate that you will be submitting comments, but find it difficult to do so within the period of time allowed by this notice, you should advise the contact listed below as soon as possible.

ADDRESSES: Direct all PRA comments to Nicholas A. Fraser, Office of Management and Budget (OMB), via fax at (202) 395-5167, or via the Internet at Nicholas_A._Fraser@omb.eop.gov and to Judith B. Herman, Federal Communications Commission (FCC). To submit your PRA comments by e-mail send then to: PRA@fcc.gov.

FOR FURTHER INFORMATION CONTACT: Judith B. Herman, OMD, 202-418-0214. For additional information about the information collection(s) send an e-mail to PRA@fcc.gov or contact Judith B. Herman, OMD, 202-418-0214.

SUPPLEMENTARY INFORMATION: OMB Control No: 3060-0952

Title: Proposed Demographic Information and Notifications, Second Further Notice of Proposed Rulemaking (NPRM), CC Docket No. 98-147 and the Fifth NPRM in CC Docket No. 96-98.

Form No.: N/A.

Type of Review: Extension of a currently approved collection.

Respondents: Business or other for-profit.

Number of Respondents: 1,400 respondents; 1,400 responses.

Estimated Time Per Response: 2 hours (2 filings per year).

Frequency of Response: On occasion reporting requirement and third party disclosure requirement.

Obligation to Respond: Mandatory.

Total Annual Burden: 5,600 hours.

Privacy Act Impact Assessment: N/A.

Nature and Extent of Confidentiality: The Commission is not requesting that respondents submit confidential information. Any respondent who submits information to the Commission that they believe is confidential may request confidential treatment of such information under 47 CFR 0.459 of the Commission's rules.

Need and Uses: The Commission is submitting this expiring information collection to the Office of Management and Budget (OMB) as an extension (no change in the reporting and/or third party disclosure requirements) in order to obtain the full three year clearance from them. There is no change in the Commission's burden estimates.

The proposed requirements implement section 706 of the Communications Act of 1934, as amended, to promote deployment of advanced services without significantly degrading the performance of other services. In CC Docket No. 98-147, the Commission solicited comment on whether requesting carriers should receive demographic and other information from ILECs to determine whether they wish to collocate in particular remote terminals. In CC Docket No. 96-98, the Commission sought comment on whether ILECs should provide certain notifications to competing carriers.

This proposed collection is used by the Commission, state commissions, and competitive carriers to facilitate the deployment of advanced services and other telecommunications services.

Federal Communications Commission.
Marlene H. Dortch,
Secretary.

[FR Doc. E9-25920 Filed 10-27-09; 8:45 am]

BILLING CODE 6712-01-S